DEPARTMENT OF TRANSPORTATION

National Highway Traffic Safety Administration

[Docket No. NHTSA-2009-0092; Notice 1]

Pilkington North America, Inc., Receipt of Petition for Decision of Inconsequential Noncompliance

Pilkington North America, Inc. (Pilkington) has determined that certain replacement rear windows that it manufactured for 2006-2009 Honda Civic two-door coupe passenger car do not fully comply with paragraphs S6.2 and S6.3 of 49 CFR 571.205, Federal Motor Vehicle Safety Standard (FMVSS) No. 205 Glazing Materials. Pilkington has filed an appropriate report pursuant to 49 CFR Part 573, Defect and Noncompliance Responsibility and Reports.

Pursuant to 49 U.S.C. 30118(d) and 30120(h) (see implementing rule at 49 CFR part 556), Pilkington has petitioned for an exemption from the notification and remedy requirements of 49 U.S.C. Chapter 301 on the basis that this noncompliance is inconsequential to motor vehicle safety.

This notice of receipt of Pilkington's, petition is published under 49 U.S.C. 30118 and 30120 and does not represent any agency decision or other exercise of judgment concerning the merits of the petition.

Pilkington estimated that 206 replacement rear windows (NAGS part number FB22692GTY) for 2006-2009 Honda Civic two-door coupe passenger cars are involved. Pilkington also states that all of the subject windows were manufactured on April 16, 2008.

Paragraphs S6.2 and S6.3 of FMVSS No. 205 require in pertinent part:

S6.2 A prime glazing manufacturer certifies its glazing by adding to the marks required by section 7 of ANSI/SAE Z26.1-1996, in letters and numerals of the same size, the symbol “DOT” and a manufacturer's code mark that NHTSA assigns to the manufacturer. NHTSA will assign a code mark to a manufacturer after the manufacturer submits a written request to the Office of Vehicle Safety Compliance, National Highway Traffic Safety Administration, * * *

S6.3 A manufacturer or distributor who cuts a section of glazing material to which this standard applies, for use in a motor vehicle or camper, must—

(a) Mark that material in accordance with section 7 of ANSI/SAE Z26.1-1996; and

(b) Certify that its product complies with this standard in accordance with 49 U.S.C. 30115.

Pilkington explained that the noncompliances with FMVSS No 205 exist due to its failure to label the replacement rear windows with the marks required by section 7 of ANSI/SAE Z26.1-1996, the symbol “DOT,” and its NHTSA assigned manufacturer code mark.

Pilkington states that it believes that this noncompliance is inconsequential to motor vehicle safety for three reasons. First, the non-compliance relates solely to product monograms or markings; the subject rear windows meet all other safety and performance standards. Second, NHTSA has previously granted other exemptions for non-compliant product labeling. In the past, the agency has recognized that the failure to meet labeling requirements often is inconsequential as to motor vehicle safety. Third, the information contained in these product markings is not required in order for consumers to operate their vehicles safely.

Pilkington stated its belief that the noncompliance will not interfere with any future tracing of the windows because Pilkington is only one of three manufacturers of rear windows for this particular Honda Civic, the other two being PGW (Pittsburgh Glass Works, formerly known as PPG) and Auto Temp, Inc. Given that the windows produced by the two other manufacturers will be properly marked, Pilkington's unlabeled rear windows should easily be identified and traced, if necessary should any future defects or noncompliances be discovered.

Pilkington also stated its belief the lack of a monogram is inconsequential with respect to motor vehicle safety because consumers do not need the information in these monograms in order to operate their vehicles in a safe manner. Pilkington has tested a number of the parts in its possession and confirmed that they meet all other applicable FMVSS.

Pilkington also has informed NHTSA that it has corrected the problem that caused these errors so that they will not be repeated in future production. Pilkington also notes its intent to ensure that no additional non-compliant rear windows are in the marketplace. In this pursuit, Pilkington stated its intention to write to all wholesalers and distributors which purchased the subject replacement parts asking them to return to Pilkington any rear windows lacking compliant markings. However, Pilkington is seeking an exemption from quarterly reporting obligations and from any regulations that could potentially require efforts to contact end users or to label or mark rear windows now in use.

In summation, Pilkington states that it believes that the noncompliances are inconsequential to motor vehicle safety and that no corrective action is warranted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Anyone is able to search the electronic form of all comments received into any of our dockets by the name of the individual submitting the comment (or signing the comment, if submitted on behalf of an association, business, labor union, etc.). DOT's complete Privacy Act Statement in the Federal Register published on April 11, 2000 (65 FR 19477-78).

You may view documents submitted to a docket at the address and times given above. You may also view the documents on the Internet at http://www.regulations.gov by following the online instructions for accessing the dockets available at that Web site.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: June 19, 2009.

Authority: 49 U.S.C. 30118, 30120: Delegations of authority at CFR 1.50 and 501.8.

Issued on: May 14, 2009.
Claude H. Harris,
Director, Office of Vehicle Safety Compliance.

[FR Doc. E9-11720 Filed 5-19-09; 8:45 am]

BILLING CODE 4910-59-P